FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel—Operating Common Carrier Ocean Transportation Intermediary Applicants:

MTM International Logistics LLC, 9737 NW 41 Street, Suite 118, Doral, FL 33178.

Officers: Quillermo Sigfrio Carbi Haubold, Manager (Qualifying Individual); Mariano Ibanez Perez, Manager.

Jamteck Int'l Shipping Inc., 4633 Richardson Ave., Bronx, NY 10410.

Officers: Angela Banett Walker, President (Qualifying Individual); Donald Barnett, Vice President.

Sun Fine Systems, Inc., 12335 Denholm Drive, Unit C, El Monte, CA 91732.

Officers: David Sun, CEO (Qualifying Individual); Jie Chen, CFO.

Inter-Connect Transportation, Inc., 8901 S. La Cienega Blvd., #203, Inglewood, CA 90301.

Officer: Hew Hwon Kim, President (Qualifying Individual).

Sosua Shipping, Inc., 608 West 192nd Street, New York, NY 10040.

Officers: Juan Luis Sanchez, President (Qualifying Individual); Dianelly Rivas, Director.

International Shipping Express, Inc., 5110 Firestone Place, South Gate, CA 90280.

Officers: Catalina Eleana Cruz, CFO (Qualifying Individual); Gilbert Espinoza, President.

Non-Vessel-Operating Common Carrier and Ocean Freight Forwarder Transportation Intermediary Applicants:

Sea Global Logisticss Inc., 21112 Figueroa Street, Suite #A-1, Carson, CA 90745.

Officers: Jeff Yang, President (Qualifying Individuals); Polly Yang, Secretary.

Hong Logistics, Inc., 852 Fairview Ave., #6.

Officer: Hong L, CEO, (Qualifying Individual).

Global Freight Inc., 975 East Nerge Road, Suite S-130, Roselle, IL 60172.

Officer: Sebastiano Uzielli De Mari, President (Qualifying Individual).

Global Logisstics Services, Inc., 9667 NW 33rd Street, Miami, FL 33172-1100.

Officers: Karla Rushton, Vice President (Qualifying Individual); Edward J. Boroski, President.

MK Freight Forwarding Inc., 160 Wallabout Street, Brooklyn, NY 11206-5418.

Officers: Vladimir A. Mirovitski, Managing Director (Qualifying Individual); Moshe Krause, President.

Ocean Freight Forwarder—Ocean Transportation Intermediary Applicants:

Continental Shipping Group Inc., 670 So. 21st Street, Irvington, NJ 07111.

Officers: Lawrence Serronico, Vice President (Qualifying Individual); Zdzislaw Lesniewski, President.

Shipping Services Italia Inc., 580 Broadway, Suite 712, New York, NY 10012.

Officer: Alessandra Fremura, CEO (Qualifying Individual).

USA Express Moving and Storage Inc., 701 Canal Street, Bristol, Pa 19007.

Officers: Dana Crosson, Sales Manager (Qualifying Individual); Yuval Rosenzweig, President.

OOCL Logistics (USA) Inc., 88 Pine Street, 5th Floor, New York, NY 10005.

Officers: Joseph P. Hogan, President (Qualifying Individual); Philip LaForgia, Jr., Vice President.

Global Services of Nevada, Inc., 1607 Guilford Drive, Henderson, NV 89014.

Officer: Tina A. Immormino, President (Qualifying Individual).

Dated: April 7, 2006.
Bryant L. VanBrakle,
Secretary.

[FR Doc. E6-5427 Filed 4-11-06; 8:45 am]

BILLING CODE 6730-01-P